DEPARTMENT OF HEALTH AND HUMAN SERVICES

Administration for Community Living

Agency Information Collection Activities; Submission for OMB Review; Centers for Independent Living Program Performance Report (CIL PPR) (0985-0061)

AGENCY: Administration for Community Living (ACL), HHS.

ACTION: Notice.

SUMMARY: The Administration for Community Living (ACL) is announcing that the proposed collection of information listed above has been submitted to the Office of Management and Budget (OMB) for review and clearance as required under section 506(c)(2)(A) of the Paperwork Reduction Act of 1995. This 30-Day notice collects comments on the information collection requirements related to Centers for Independent Living Program Performance Report (CIL PPR) (0985-0061).

DATES: Comments on the information collection request must be submitted electronically by 11:59 p.m. (EST) or postmarked by February 18, 2022.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Peter Nye, Administration for Community Living, Washington, DC 20201, (202) 795-7606 or OILPPRAComments@acl.hhs.gov.

SUPPLEMENTARY INFORMATION: In compliance with 44 U.S.C. 3507, ACL has submitted the following proposed collection of information to OMB for review and clearance. The Administration for Community Living (ACL) is requesting approval to collect data for information collection requirements related to Centers for Independent Living Program Performance Report (CIL PPR) (0985-0061). In the context of ACL, IL programs are supported through funding authorized by the Rehabilitation Act of 1973, as amended (The Act). Title VII, chapter 1 of the Act states the current purpose of the program is to “promote a philosophy of independent living including a philosophy of consumer control, peer support, self-help, self-determination, equal access, and individual and system advocacy, in order to maximize the leadership, empowerment, independence, and productivity of individuals with disabilities, and the integration and full inclusion of individuals with disabilities into the mainstream of American society.”

The CIL PPR is submitted annually by all CILs receiving IL Part C funds. The PPRs are used by ACL to assess grantees' compliance with title VII of the Act, and with 45 CFR 1329 of the Code of Federal Regulations and with applicable provisions of the HHS Regulations at 45 CFR part 75. The PPR serves as the primary basis for ACL's monitoring activities in fulfillment of its responsibilities under sections 706 and 722 of the Act. The PPR also enables ACL to track performance outcomes and efficiency measures of the CIL programs with respect to the annual and long-term performance targets established in compliance with GPRA. The PPR is also used by ACL to design CIL and Statewide Independent Living Council training and technical assistance programs authorized by section 711A and section 721 of the Act.

The CARES Act PPR is submitted annually by all CILs receiving CARES Act funds. The CARES Act requires ACL grantees that receive CARES Act funding to report quarterly, to ACL and to the Pandemic Response Accountability Committee, “the total amount of large covered funds that the grantee received from ACL; the amount of large covered funds received that were expended or obligated for each project or activity; a detailed list of all projects or activities for which large covered funds were expended or obligated, including the name of the project or activity; a description . . . ; and the estimated number of jobs created or retained by the project or activity, where applicable; and detailed information on any subcontracts or Subgrants . . .” Coronavirus Aid, Relief, and Economic Security Act, Public Law 116-136, H.R. 748 15011(a-b), 116th Cong. (2020).

The current version of the CIL PPR (that includes the CARES Act PPR) that OILP is requesting an extension for was approved by OMB; the approval was extended and will expire on January 31, 2022.

Comments in Response to the 60-Day Federal Register Notice

A notice was published in the Federal Register on August 9, 2021 (Vol. 86, Number 2021-16752; pp. 43549-43550).

We received no comments during the 60-day comment period.

Estimated Program Burden: ACL estimates the burden of this collection of information as follows: The two-hundred ninety Part C CILs will complete 353 CIL PPRs annually, and it will take an estimated 35 hours per CIL per CIL PPR for an estimated total of 12,355 hours. Two-hundred ninety CILs will each complete CARES Act PPRs, and it will take an estimated forty-six hours per CIL per CARES Act PPR. The two-hundred ninety Part C CILs will take an estimated 13,340 hours to complete CARES Act PPRs. The two-hundred ninety Part C CILs will spend an estimated 25,695 hours completing CIL PPRs and CARES Act PPRs. These burden estimates are based on ACL's estimate of the average time required to collect the information collected in the PPR and feedback from CILs on the time needed to complete the PPR.

Respondent | Data collection activity | Number of respondents | Responses per respondent | Hours per response | Total Annual burden hours
CILs | CIL PPR | 353 | 1 | 35 | 12,355
CILs | CARES Act PPR | 290 | 1 | 46 | 13,340
CILs | Total |  | 2 | 81 | 25,695

Dated: January 12, 2022.
Alison Barkoff,
Principal Deputy Administrator.

[FR Doc. 2022-00892 Filed 1-18-22; 8:45 am]

BILLING CODE 4154-01-P